DEPARTMENT OF EDUCATION

Office of Special Education and Rehabilitative Services; Overview Information; Personnel Development To Improve Services and Results for Children With Disabilities; Notice Inviting Applications for New Awards for Fiscal Year (FY) 2009.

Catalog of Federal Domestic Assistance (CFDA) Numbers: 84.325D, 84.325K, and 84.325T.

Note: This notice invites applications for three separate competitions. For key dates, contact person information, and funding information regarding each of the three competitions, see the chart in the Award Information section of this notice.

Dates:

Applications Available: See chart.

Deadline for Transmittal of Applications: See chart.

Deadline for Intergovernmental Review: See chart.

Full Text of Announcement

I. Funding Opportunity Description

Purpose of Program: The purposes of this program are to (1) help address State-identified needs for highly qualified personnel—in special education, related services, early intervention, and regular education—to work with infants, toddlers, and children with disabilities; and (2) ensure that those personnel have the necessary skills and knowledge, derived from practices that have been determined through scientifically based research and experience, to be successful in serving those children.

Priorities: In accordance with 34 CFR 75.105(b)(2)(iv), these priorities are from allowable activities specified in the statute (see sections 662 and 681 of the Individuals with Disabilities Education Act (IDEA)). Each of the absolute priorities announced in this notice corresponds to a separate competition as follows:

Absolute priority | Competition CFDA number
Preparation of Leadership Personnel | 84.325D
Combined Personnel Preparation | 84.325K
Special Education Preservice Program Improvement Grants | 84.325T

Absolute Priorities: For FY 2009 and any subsequent year in which we make awards based on the list of unfunded applications from these competitions, these priorities are absolute priorities. Under 34 CFR 75.105(c)(3), for each competition, we consider only applications that meet the absolute priority for that competition.

The priorities are:

Absolute Priority 1—Preparation of Leadership Personnel (84.325D).

Background: Training of special educators and related services personnel at the highest levels, including both the doctoral and post-doctoral levels, is critical to ensure the continued development and availability of quality services for children with disabilities. Over the last several decades, research has consistently suggested that there is a persistent need for special education and related services personnel who have been trained at the doctoral and post-doctoral levels (Smith, Pion, & Tyler, 2004; Smith, Pion, Tyler, Sindelar, & Rosenberg, 2001; Wasburn-Moses & Therrien, in press). Accordingly, the Department seeks to support programs that provide doctoral, post-doctoral, and advanced graduate level training that prepares professionals to work in special education as researchers, teacher educators, administrators, and direct service providers.

Priority: The Preparation of Leadership Personnel priority supports projects that train personnel at the preservice doctoral or post-doctoral level in early intervention, special education, or related services, and at the advanced graduate level (masters and specialists) in special education administration/supervision. In order to be eligible under this priority, programs must provide training and support for scholars to complete their training within the project period of the grant. Therefore, only the following types of programs of study will meet the requirements of this priority:

1. A major in special education, related services, or early intervention at the doctoral or post-doctoral level; and

2. Training at the advanced graduate level (masters and specialists programs) in special education administration/supervision.

Note: Training that leads to a Doctor of Audiology (DAud) degree is not included as part of this priority because training programs that lead to a DAud degree are eligible to apply for funding under the Combined Personnel Preparation priority (CFDA 84.325K) announced elsewhere in this notice.

To be considered for funding under the Preparation of Leadership Personnel absolute priority, applicants must meet the application requirements contained in the priority. All projects funded under the absolute priority also must meet the programmatic and administrative requirements specified in the priority. The application, programmatic, and administrative requirements are as follows:

(a) Demonstrate, in the narrative section of the application, under “Quality of Project Services,” how—

(1) The program prepares personnel to address the specialized needs of children with disabilities from diverse cultural and language backgrounds, including limited English proficient children with disabilities, by—

(i) Identifying the competencies needed by leadership personnel to understand and work with culturally and linguistically diverse populations (the competencies identified should reflect the current knowledge base); and

(ii) Preparing personnel to use those competencies through early intervention, special education, and related services training programs;

(2) All relevant coursework for the proposed program reflects current research and pedagogy on—

(i) Participation and achievement in the general education curriculum and improved outcomes for all children with disabilities; and

(ii) The provision of coordinated services in natural environments to improve outcomes for infants and toddlers with disabilities and their families;

(3) The program is designed to integrate coursework with practicum opportunities that will enhance the competencies of special educators and related services personnel at the doctoral and post-doctoral levels to effectively (a) serve in a variety of leadership positions (e.g., direct service, research faculty, teacher training, or leadership at the State or local level) and (b) collaborate and work with regular education personnel.

(4) For programs that train personnel in early intervention, special education, or related services, the program ensures that scholars are knowledgable about: (i) The provisions of the Elementary and Secondary Education Act of 1965 (ESEA), as amended by the No Child Left Behind Act of 2001 (NCLB); (ii) the requirements for highly qualified teachers under IDEA and NCLB; and (iii) strategies to foster collaboration between regular and special education teachers; and

(5) The proposed training program includes training on developing and addressing State academic content and achievement standards, if applicable.

(b) Submit electronically annual data on each scholar who receives grant support within 60 days after the end of each grant budget year. Applicants are encouraged to visit the Personnel Prep Data (PPD) Web site at www.osepppd.org for further information about this data collection requirement. This data collection is in addition to and does not supplant the annual grant performance report required of each grantee for continuation funding (see 34 CFR 75.590).

(c) Budget for attendance at a three-day Project Director's meeting in Washington, DC, during each year of the project.

(d) If the project maintains a Web site, include relevant information and documents in a format that meets a government or industry-recognized standard for accessibility.

(e) Include, in the application appendix, all course syllabi for the proposed training program. Course syllabi must clearly incorporate research-based curriculum and pedagogy as required under paragraph (a) of this priority.

(f) Provide, in the application narrative, a detailed description of the program that includes the sequence of courses offered in the program and the comprehensive curriculum designed to meet program goals and obtain mastery in the following required professional domains:

(1) Research methodology.

(2) Personnel preparation.

(3) Policy/advocacy or professional practice.

(g) Include, in the application narrative under “Quality of Project Evaluation,” a clear and effective plan for evaluating the extent to which graduates of the training program have the knowledge and competencies necessary to provide research-based instruction and services that result in improved outcomes for children with disabilities.

(h) Communicate the results of the evaluation conducted in accordance with paragraph (g) of this priority to the Office of Special Education Programs (OSEP) in required annual performance reports for continuation funding and the project final performance report.

(i) Certify that all scholars will be recruited into the program with the intention of graduating from the program during the performance period of the grant.

(j) Certify that the institution will not require scholars recruited into the program to work as a condition of receiving a scholarship (e.g., as graduate assistants, unless the work is required to complete their training program). Please note that this prohibition on work as a condition of receiving a scholarship does not apply to the service obligation requirements in section 662(h) of IDEA.

(k) If the program is addressing national or regional needs, demonstrate in the application narrative the existence of the needs through appropriate research data.

(l) Ensure that at least 65 percent of the total requested budget per year will be used for student support or provide justification in the application narrative for any designation less than 65 percent. Examples of sufficient justification for proposing less than 65 percent of the budget for student support might include:

(1) A project servicing rural areas that provides long-distance training, and requires Web Masters, adjunct professors, or mentors to operate effectively.

(2) A project that is expanding or adding a new area of emphasis to the program, and as a result of this expansion, needs additional faculty or other resources, such as expert consultants, additional training supplies, or equipment that would enhance the program.

Note: Applicants proposing projects to develop, expand, or add a new area of emphasis to special education or related services programs must provide, in their applications, information on how these new areas will be sustained once Federal funding ends.

(m) Meet the statutory requirements in section 662(e) through 662(h) of IDEA.

Smith, D.D., Pion, G.M., Tyler, N.C. (2004). Leadership personnel in special education: Can persistent shortage be resolved? In A. McCray Sorrells, H.J. Rieth, & P.T. Sindelar (Eds.), Critical Issues in Special Education: Access, Diversity, and Accountability (pp. 258-276). New York: Pearson Allyn and Bacon.

Smith, D.S., Pion, G., Tyler, N.C., Sindelar, P., & Rosenberg, M. (2001). The study of special education leadership personnel: With particular attention to the professoriate. Vanderbilt University, Nashville, TN, University of Florida at Gainesville, Gainesville, FL, and Johns Hopkins University, Baltimore, MD. Retrieved March 23, 2008, from http://hecse.org/pdf/SPED_Leadership_Study.pdf

Wasburn-Moses, L., & Therrien, W.J. (in press). The impact of Leadership Personnel Grants on the doctoral student population in special education. Teacher Education in Special Education.

Absolute Priority 2—Combined Personnel Preparation (84.325K).

Background: State agencies, university training programs, local schools, and community-based entities acknowledge the importance of improving training programs for personnel to serve infants, toddlers, and children with disabilities (Early, D. M. & Winton, P. J., 2001; Scheuermann, Webber, Boutot, & Goodwin, 2003). In addition, the national demand for fully credentialed early intervention, special education, and related services personnel to serve infants, toddlers, and children with disabilities exceeds the available supply (McLeskey, Tyler, & Flippin, 2004). Federal support is needed to improve both the quality and supply of these personnel.

Priority: The purpose of the Combined Personnel Preparation priority is to improve the quality, and increase the number, of personnel who are fully credentialed to serve infants, toddlers, and children with disabilities—especially in areas of chronic personnel shortage—by supporting projects that prepare early intervention, special education, and related services personnel at the associate, baccalaureate, master's, and specialist levels. In order to be eligible under this priority, programs must provide training and support for students to complete, within the project period of the grant, a degree, State certification, professional license, or State endorsement in early intervention, special education, or in a related services field. Programs preparing students to be special education paraprofessionals, assistants in related services professions (e.g., physical therapist assistants, occupational therapist assistants), or educational interpreters are also eligible under this priority.

To be considered for funding under the Combined Personnel Preparation absolute priority, applicants must meet the application requirements contained in the priority. All projects funded under the absolute priority must—

(a) Demonstrate, in the narrative section of the application, under “Quality of Project Services,” how—

(1) Training requirements and required coursework for the proposed training program incorporate research-based practices that improve outcomes for children with disabilities (including relevant research citations);

(2) The program is designed to integrate coursework with practicum opportunities that will enhance the competencies of special education personnel to effectively (a) serve and instruct children with disabilities and (b) collaborate and work with regular education personnel.

(3) The program prepares personnel to address the specialized needs of children with disabilities from diverse cultural and language backgrounds, including limited English proficient children with disabilities, by—

(i) Identifying the competencies needed by personnel to understand and work with culturally and linguistically diverse populations (the competencies identified should reflect the current knowledge base); and

(ii) Preparing personnel to use those competencies through early intervention, special education, and related services training programs;

(4) If preparing beginning special educators, the program is designed to provide extended clinical learning opportunities, ¹ field experiences, or supervised practica (such as an additional year), and ongoing high quality mentoring and induction opportunities;

¹ Clinical learning opportunities are a method of instruction for students to apply knowledge and skills in highly controlled or simulated situations to ensure that they possess needed skills and competencies prior to entering actual or typical environments with children with disabilities.

(5) The program includes field-based training opportunities for scholars (as defined in 34 CFR 304.3(g)) in diverse settings including schools and settings in high-poverty communities, rural areas, and urban areas;

(6) The proposed training program will: (a) Enable scholars to be highly qualified, in accordance with section 602(10) of IDEA and 34 CFR 300.18, in the State(s) to be served by the applicant; and (b) ensure that scholars are equipped with the knowledge and skills necessary to assist children in meeting State academic achievement standards; and

(7) The training program provides student support systems (including tutors, mentors, and other innovative practices) to enhance student retention and success in the program.

(b) Include, in the narrative section of the application under “Quality of Project Evaluation,” a clear, effective plan for evaluating the extent to which graduates of the training program have the knowledge and skills necessary to provide scientifically based or evidence-based instruction and services that result in improved outcomes for children with disabilities. Applicants also must clearly describe, under “Quality of Project Evaluation,” how the project will report these evaluation results to the Office of Special Education Programs (OSEP) in the grantee's annual performance reports and final performance report.

(c) Meet the statutory requirements in section 662(e) through 662(h) of IDEA.

(d) Ensure that at least 65 percent of the total requested budget per year is used for student support.

(e) Budget for attendance at a three-day Project Director's meeting in Washington, DC, during each year of the project.

(f) If the project maintains a Web site, include relevant information and documents in a form that meets a government or industry-recognized standard for accessibility.

(g) Include, in the application appendix, all course syllabi for the proposed training program. Course syllabi must clearly reflect the incorporation of research-based curriculum and pedagogy as required under paragraph (a) of this priority.

(h) Submit electronically annual data on each scholar who receives grant support within 60 days after the end of each grant budget year. Applicants are encouraged to visit the Personnel Prep Data (PPD) Web site at www.osepppd.org for further information about this data collection requirement. This data collection is in addition to and does not supplant the annual grant performance report required of each grantee for continuation funding (see 34 CFR 75.590).

Focus Areas

Within this absolute priority, the Secretary intends to support projects under the following four focus areas: (a) Training Personnel to Serve Infants, Toddlers, and Pre-school Age Children with Disabilities, (b) Training Personnel to Serve School Age Children with Low Incidence Disabilities, (c) Training Personnel to Provide Related Services, Speech/Language Services, and Adapted Physical Education to Infants, Toddlers, and Children with Disabilities, and (d) Training Personnel in Minority Institutions to Serve Infants, Toddlers, and Children with Disabilities.

Note: Applicants must identify the specific focus area i.e., (a), (b), (c), or (d), under which they are applying as part of the competition title on the application cover sheet (SF form 424, line 4). Applicants may not submit the same proposal under more than one focus area.

Focus Area a: Training Personnel to Serve Infants, Toddlers, and Pre-school Age Children with Disabilities. For the purpose of this focus area, early intervention personnel are those who are trained to provide services to infants and toddlers with disabilities ages birth through two, and early childhood personnel are those who are trained to provide services to children with disabilities ages three through five (in States where the age range is other than ages three through five, we will defer to the State's certification for early childhood). In States where certification in early intervention (EI) is combined with certification in early childhood (EC), applicants may propose a combined EI/EC training project under this focus area. Projects training related services, speech/language, or adapted physical education personnel are not eligible under this focus area (see Focus Area c).

Focus Area b: Training Personnel to Serve School Age Children with Low Incidence Disabilities. For the purpose of this focus area, low incidence personnel are special education personnel, including paraprofessionals, trained to serve school age children with low incidence disabilities including visual impairments, hearing impairments, simultaneous vision and hearing impairments, significant cognitive impairments (severe mental retardation), orthopedic impairments, autism, and traumatic brain injury. Programs preparing special education personnel to provide services to visually impaired or blind children that can be appropriately provided in Braille must prepare those individuals to provide those services in Braille. Projects training educational interpreters are eligible under this focus area. Projects training other related services, speech/language, or adapted physical education personnel are not eligible under this focus area (see Focus Area c). Projects training special education pre-school personnel are eligible under Focus Area a.

Focus Area c: Training Personnel to Provide Related Services, Speech/Language Services, and Adapted Physical Education to Infants, Toddlers, and Children with Disabilities. Programs training related services, speech/language or adapted physical education personnel to serve infants, toddlers, or children with disabilities are eligible within this focus area. For the purpose of this focus area, related services include, but are not limited to, psychological services, physical therapy (including therapy provided by personnel trained at the Doctor of Physical Therapy (DPT) level), occupational therapy, therapeutic recreation, social work services, counseling services, audiology services (including services provided by personnel trained at the Doctor of Audiology (DAud) level), and speech/language services. Training programs in States where personnel trained to serve children with speech/language impairments are considered to be special educators are eligible under this focus area. Projects training educational interpreters are not eligible under this focus area, but may apply under Focus Area b.

Focus Area d: Training Personnel in Minority Institutions to Serve Infants, Toddlers, and Children with Disabilities. Programs in minority institutions are eligible under this focus area if they train: (a) Personnel to serve one or more of the following: infants, toddlers, and pre-school age children with disabilities; (b) personnel to serve school age children with low incidence disabilities; or (c) personnel to provide related services, speech/language, or adapted physical education to infants, toddlers, and children with disabilities. Minority institutions include institutions with a minority student enrollment of 25 percent or more, which may include Historically Black Colleges and Universities, Tribal Colleges, and Predominantly Hispanic Serving Colleges and Universities.

Within this focus area, institutions that are recommended for funding in FY 2009 and that have not received support under the IDEA Personnel Development Program in FY 2008 will receive 10 competitive preference points. (Programs in minority institutions training personnel in Focus Areas a, b, and c are eligible within Focus Area d. Programs that are training high incidence special education personnel are not eligible within Focus Area d. However, programs that are training high incidence special education personnel are eligible under Absolute Priority 3—Special Education Preservice Program Improvement Grants, located elsewhere in this notice.)

Under Focus Area d, a project may budget for less than the required percentage (65 percent) for student support if the applicant can provide sufficient justification for any designation less than 65 percent. Sufficient justification for proposing less than 65 percent of the budget for student support would include support for activities such as program development, program expansion, or the addition of a new area of emphasis. Some examples include the following:

(1) A project that is starting a new program may request up to a year for program development and capacity building. In the initial project year, no student support would be required. Instead, a project could hire a new faculty member or a consultant to assist in program development.

(2) A project that is proposing to build capacity may hire a field supervisor so that additional students can be trained.

(3) A project that is expanding or adding a new area of emphasis to the program may hire additional faculty or obtain other resources such as expert consultants, additional training supplies, or equipment that would enhance the program.

Note: Applicants proposing projects to develop, expand, or to add a new area of emphasis to special education or related services programs must provide information, in their applications, on how these new areas will be sustained once Federal funding ends.

Within this absolute priority, we are particularly interested in applications that address the following invitational priorities.

Invitational Priorities: Under 34 CFR 75.105(c)(1) we do not give an application that meets these invitational priorities a competitive or absolute preference over other applications.

These priorities are:

(1) In Focus Areas b and d, the Secretary is particularly interested in programs that prepare special educators to provide instruction in core academic content areas (i.e., English/language arts, mathematics, science, foreign languages, art, history, and geography) to children with disabilities.

(2) The Secretary is also particularly interested in programs that provide enhanced support for beginning special educators (see section 662(b)(3) of IDEA).

Early, D.M. & Winton, P.J. (2001). Preparing the workforce: Early childhood teacher preparation at 2- and 4-year institutions of higher education. Early Childhood Research Quarterly, 16(3), 285-306.

McLeskey, J., Tyler, N., & Flippin, S.S. (2004). The supply and demand for special education teachers: A review of research regarding the chronic shortage of special education teachers. The Journal of Special Education, 38(1), 5-21.

Scheuermann, B., Webber, J., Boutot, E.A., Goodwin, M. (2003). Problems with Personnel Preparation in Autism Spectrum Disorders. Focus on Autism & Other Developmental Disabilities, 18(3).

Absolute Priority 3—Special Education Preservice Program Improvement Grants (84.325T).

Background: State educational agencies, institutions of higher education (IHEs), and local educational agencies consistently report that personnel preparation programs for kindergarten through grade 12 (K-12) special education teachers should be restructured or redesigned so that graduates of these programs meet the highly qualified teacher (HQT) requirements in the Individuals with Disabilities Education Act (IDEA). To accomplish this goal, personnel preparation programs must ensure that their graduates who expect to be providing instruction in a core academic subject are able to meet State special education certification or licensure requirements, as well as have the necessary content knowledge, consistent with the HQT requirements in IDEA.

Federal support can assist in improving the quality of IHE programs that prepare special education teachers, and help to ensure that these teachers have the knowledge and skills needed to teach students with disabilities using evidence-based interventions.

Priority: The purpose of this priority is to improve the quality of K-12 special education teacher preparation programs and ensure that program graduates meet the HQT requirements under sections 602(10) of IDEA, and are well prepared to serve children with high incidence disabilities. For purposes of this priority, the term “high incidence disabilities” refers to learning disabilities, emotional disturbance, or mental retardation. In order to be eligible under this priority, applicants must currently prepare special education personnel (at the baccalaureate or master's level) to serve school age children with high incidence disabilities.

Note: This priority only supports the improvement or expansion of existing programs for high incidence personnel, such as the expansion of a program for elementary school teachers to include a program for secondary school teachers serving children with high incidence disabilities. This priority does not support the development of new programs for high incidence personnel. In addition, this priority does not support programs in IHEs that are preparing preschool teachers.

To be considered for funding under the Special Education Preservice Program Improvement Grants priority, applicants must meet the application requirements contained in the priority. All projects funded under the absolute priority also must meet the programmatic and administrative requirements specified in the priority. The application, programmatic, and administrative requirements are as follows:

(a) Demonstrate, in the narrative section of the application under “Quality of Project Services,” how—

(1) The first year of the project period will be used for planning an improved or restructured K-12 teacher preparation program that includes induction and mentoring components; revising curriculum; integrating evidence-based interventions that improve outcomes for children with high incidence disabilities into the improved or restructured program (including providing research citations for those evidence-based interventions); and coordinating with the National Center to Enhance the Professional Development of School Personnel on the use of its Web-based training modules (see http://www.iris.peabody.vanderbilt.edu). Applicants must describe first-year activities and include a five-year timeline and implementation plan in their applications. This plan must describe the proposed project activities associated with implementation of the improved or restructured program that includes induction and mentoring components. Implementation of the plan may not begin without approval from OSEP;

(2) The improved or restructured program is designed to integrate coursework with practicum opportunities that will enhance the competencies of beginning special education teachers to collaborate and work with general education teachers and other personnel to provide effective services and instruction in academic subjects to children with high incidence disabilities in K-12 general education classrooms;

(3) The improved or restructured program is designed to prepare special education teachers to address the specialized needs of children with high incidence disabilities from diverse cultural and language backgrounds, including limited English proficient children with disabilities, by identifying the competencies that special education teachers need to work effectively with culturally and linguistically diverse populations;

(4) The improved or restructured program is designed to provide extended clinical learning opportunities,² field experiences, or supervised practica and ongoing high quality mentoring and induction opportunities in local schools. Applicants also must demonstrate how they will coordinate with the National Center on Policy and Practice in Special Education in designing the program to provide extended clinical learning opportunities, field experiences, or supervised practica (see http://www.coe.ufl.edu/copsse/);

² Clinical learning opportunities are a method of instructions for students to apply knowledge and skills in highly controlled or simulated situations to ensure that they possess needed skills and competencies prior to entering actual or typical environments with children with disabilities.

(5) The improved or restructured program is designed to include field-based training opportunities in diverse settings including schools and settings in high-poverty communities and in schools not making adequate yearly progress (AYP) under NCLB;

(6) The improved or restructured program will: (a) Enable scholars to be highly qualified, in accordance with section 602(10) of IDEA and 34 CFR 300.18, in the State(s) to be served by the applicant; and (b) ensure that scholars are equipped with the knowledge and skills necessary to assist children in meeting State academic achievement standards;

(7) The improved or restructured program is designed to provide support systems (including tutors, mentors, and other innovative practices) to enhance retention in and successful completion of the program; and

(8) The improved or restructured program will be maintained once Federal funding ends.

(b) For programs that will be restructured or re-designed to produce graduates who meet the HQT requirements for teachers who teach core academic subjects, applicants must establish partnerships with the appropriate academic departments. Funds may be used to support faculty from the academic departments for their involvement in the activities outlined in paragraph (4) of this priority. To address this requirement, applications must—

(i) Describe how representatives of relevant academic departments with expertise in the core academic subjects being addressed in the application will be involved in the partnership;

(ii) Provide evidence that such partnerships will include a permanent faculty member from the appropriate academic departments, who will be involved in developing the overall project and designing the curriculum used to train scholars in the particular core academic subject;

(iii) Provide evidence that permanent faculty members from the appropriate academic departments participated in the design of the program.

(c) Include, in the narrative section of the application under “Quality of Project Evaluation,” a clear, effective plan for evaluating the extent to which graduates of the training program have the knowledge and skills necessary to provide scientifically based or evidence-based instruction and services that result in improved outcomes for children with disabilities. Applicants also must clearly describe, under “Quality of Project Evaluation,” how the project will report these evaluation results to OSEP in the grantee's annual performance reports and final performance report.

(d) Meet the statutory requirements in section 662(e) through 662(f) of IDEA.

(e) Budget for planning and improvement activities, including activities to be performed by consultants. This priority does not provide financial support for students during any year of the project.

(f) Budget for attendance at a three-day Project Director's meeting in Washington, DC, during each year of the project.

(g) If the project maintains a Web site, include relevant information and documents in a form that meets a government or industry-recognized standard for accessibility.

(h) Include, in the application appendix, all course syllabi for the existing teacher preparation program. Revised syllabi for the improved or restructured program must be submitted at the end of the first year of the project period.

Within this absolute priority, we give competitive preference to applications that address the following priority.

Competitive Preference Priority: Under 34 CFR 75.105(c)(2)(i), we award up to an additional 10 points to an application, depending on how well the application meets this priority.

This priority is: Competitive Preference Points Based on Number of High Incidence Special Education Teacher Graduates from Program in a Recent Year.

In order to earn competitive preference points under this priority, applicants must document the number of K-12 special education teachers who graduated from a preparation program that prepares personnel (at the baccalaureate or master's level) to serve school age children with high incidence disabilities in any recent year, regardless of whether the graduates received support from a Federal grant. For purposes of this competitive preference priority, the term “recent year” is defined as any of the past three fiscal years (i.e., FY 2005, FY 2006, or FY 2007). The table that follows indicates how the competitive preference points will be awarded. For example, an applicant that documents 10 graduates (new K-12 high incidence special education teachers) during a recent year would earn 2 competitive preference points. An applicant that documents 30 graduates (new K-12 high incidence special education teachers) during a recent year would earn 6 competitive preference points. An applicant that documents 50 or more graduates (new K-12 high incidence special education teachers) during a recent year would earn 10 competitive preference points.

Number of students graduating (new K-12 high incidence special education teachers) from program in a recent year (including non-OSEP funded graduates) | Number of competitive preference points awarded
8-19 graduates | 2 points.
20-29 graduates | 4 points.
30-39 graduates | 6 points.
40-49 graduates | 8 points.
50+ graduates | 10 points.

The number of students (i.e., new K-12 high incidence special education teachers) graduating from the program must be documented in the application. A letter from the Dean or Department Chair verifying the number of high incidence graduates in a recent fiscal year would be adequate documentation for purposes of this competitive preference.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1462 and 1481.

Applicable Regulations: (a) The Education Department General Administrative Regulations (EDGAR) in 34 CFR parts 74, 75, 77, 79, 80, 81, 82, 84, 85, 86, 97, 98, and 99. (b) The regulations for this program in 34 CFR part 304.

II. Award Information

Type of Awards: Discretionary grants for competitions CFDA 84.325D and 84.325K, and cooperative agreements for competition CFDA 84.325T.

Estimated Available Funds: The Administration has requested $88,152,592 for the Personnel Development to Improve Services and Results for Children with Disabilities program for FY 2009, of which we intend to use an estimated $1,450,000 for the competitions announced in this notice. Please refer to the “Estimated Range of Awards” column of the chart in this section for the estimated dollar amounts for individual competitions. The actual level of funding, if any, depends on final congressional action. However, we are inviting applications to allow enough time to complete the grant process if Congress appropriates funds for this program.

Contingent upon the availability of funds and the quality of applications for the competitions announced in this notice, we may make additional awards in FY 2009 from the lists of unfunded applicants from individual competitions.

Estimated Range of Awards: See chart.

Estimated Average Size of Awards: See chart.

Maximum Award: See chart.

Estimated Number of Awards: See chart.

Project Period: See chart.

Personnel Development To Improve Services and Results for Children With Disabilities Application Notice for Fiscal Year 2009
CFDA number and name | Applications available | Deadline for transmittal of applications | Deadline for intergovernmental review | Estimated range of awards | Estimated average size of awards | Maximum award | Estimated number of awards | Project period | Contact person
84.325D Preparation of Leadership Personnel | July 21, 2008 | September 2, 2008 | October 29, 2008 | $175,000-$200,000 | $200,000 | $200,000* | 25 | Up to 48 months | Bob Gilmore (202) 245-7354 Rm 4083.
84.325K Combined Personnel Preparation | July 21, 2008 | September 9, 2008 | November 10, 2008 |  |  |  |  |  |
Focus Area a: Training Personnel to Serve Infants, Toddlers, and Pre-school Age Children with Disabilities |  |  |  | $150,000-$200,000 | $175,000 | $200,000* | 14 | Up to 48 months | Maryann McDermott (202) 245-7439 Rm 4062.
Focus Area b: Training Personnel to Serve School Age Children with Low Incidence Disabilities |  |  |  | $150,000-$200,000 | $175,000 | $200,000* | 23 | Up to 48 months |
Focus Area c: Training Personnel to Provide Related Services, Speech/Language Services, and Adapted Physical Education to Infants, Toddlers, and Children with Disabilities |  |  |  | $150,000-$200,000 | $175,000 | $200,000* | 14 | Up to 48 months |
Focus Area d: Training Personnel in Minority Institutions to Serve Infants, Toddlers, and Children with Disabilities |  |  |  | $150,000-$200,000 | $175,000 | $200,000* | 14 | Up to 48 months |
84.325T Special Education Preservice Program Improvement Grants | July 21, 2008 | September 19, 2008 | November 18, 2008 | $100,000-$150,000 (first year of project) | $125,000 (first year of project) | $150,000** (first year of project) | 21 | Up to 60 months | Bonnie Jones (202) 245-7395 Rm 4153.
*We will reject any application that proposes a budget exceeding the maximum award for a single budget period of 12 months. The Assistant Secretary for Special Education and Rehabilitative Services may change the maximum amount through a notice published in the Federal Register.
**For the Special Education Preservice Program Improvement Grants, 84.325T competition:
Note: We will reject any application that exceeds $500,000 for a five-year project period. We will reject any application that proposes a budget exceeding $150,000 for a single budget period of 12 months for the first year of the project; we will reject any application that proposes a budget exceeding $100,000 for a single budget period of 12 months over the last four years of the project. Applicants can choose to have a larger budget during the initial year of the grant up to $150,000, however, if the first year budget is over $100,000 then subsequent years need to be adjusted so that the total amount of the grant does not exceed $500,000.
Note: No more than one cooperative agreement will be awarded per IHE. Programs in minority institutions that are preparing special education teachers of children with high incidence disabilities are eligible to apply under this competition. For purposes of this competition, the term “minority institutions” include IHEs with a minority student enrollment of 25 percent or more, which may include Historically Black Colleges and Universities, Tribal Colleges, and Predominantly Hispanic Serving Colleges and Universities.
Note: The Department is not bound by any estimates in this notice.

III. Eligibility Information

1. Eligible Applicants: Institutions of higher education (IHEs).

Note: For Absolute Priority 3—Special Education Preservice Program Improvement Grants (84.325T), programs in IHEs that are preparing preschool teachers are not eligible to apply under that competition.

2. Cost Sharing or Matching: This program does not require cost sharing or matching.

3. Other: General Requirements— (a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify the competition to which you want to apply, as follows: CFDA number 84.325D, 84.325K, or 84.325T.

Individuals with disabilities may obtain a copy of the application package in an alternative format (e.g., Braille, large print, audiotape, or computer diskette) by contacting the person or team listed under Alternative Format in section VIII of this notice.

2. Content and Form of Application Submission: Requirements concerning the content of an application, together with the forms you must submit, are in the application package for each competition announced in this notice.

Page Limit: The application narrative (Part III of the application) is where you, the applicant, address the selection criteria that reviewers use to evaluate your application. You must limit Part III to the equivalent of no more than 50 pages for each absolute priority, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the two-page abstract, the resumes, the bibliography, the references, or the letters of support. However, you must include all of the application narrative in Part III.

We will reject your application if—

• You apply these standards and exceed the page limit; or

• You apply other standards and exceed the equivalent of the page limit.

3. Submission Dates and Times:

Applications Available: See chart.

Deadline for Transmittal of Applications: See chart.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice. Deadline for Intergovernmental Review: See chart.

4. Intergovernmental Review: This program is subject to Executive Order 12372 and the regulations in 34 CFR part 79. Information about Intergovernmental Review of Federal Programs under Executive Order 12372 is in the application package for each of the competitions announced in this notice.

5. Funding Restrictions: We reference regulations outlining funding restrictions in the Applicable Regulations section in this notice.

6. Other Submission Requirements: Applications for grants under this program may be submitted electronically or in paper format by mail or hand delivery.

a. Electronic Submission of Applications.

To comply with the President's Management Agenda, we are participating as a partner in the Governmentwide Grants.gov Apply site. The Personnel Development to Improve Services and Results for Children with Disabilities competitions, CFDA numbers 84.325D, 84.325K, and 84.325T, announced in this notice are included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Personnel Development to Improve Services and Results for Children with Disabilities program competitions—CFDA numbers 84.325D, 84.325K, and 84.325T at http://www.Grants.gov. You must search for the downloadable application package for the competition to which you are applying by the CFDA number. Do not include the CFDA number's alpha suffix in your search (e.g., search for 84.325, not 84.325D).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to which you are applying to ensure that you submit your application in a timely manner to the Grants.gov system. You also can find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center Attention: (CFDA Number 84.325D, 84.325K, or 84.325T), 400 Maryland Avenue, SW., Washington, DC 20202-4260. or

By mail through a commercial carrier: U.S. Department of Education, Application Control Center—Stop 4260, Attention: (CFDA Number 84.325D, 84.325K, or 84.325T), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.325D, 84.325K, or 84.325T), 550 12th Street, SW., Room 7041, Potomac Center Plaza, Washington, DC 20202-4260.

The Application Control Center accepts hand deliveries daily between 8:00 a.m. and 4:30:00 p.m., Washington, DC time, except Saturdays, Sundays and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application packages for each competition announced in this notice.

2. Peer Review: In the past, the Department has had difficulty finding peer reviewers for certain competitions, because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities program. These measures include: (1) The percentage of projects that incorporate scientifically based or evidence-based practices; (2) the percentage of scholars who exit training programs prior to completion due to poor academic performance; (3) the percentage of degree or certification recipients who are working in the area(s) for which they were trained upon program completion; (4) the percentage of degree or certification recipients who are working in the area(s) for which they were trained upon program completion and are fully qualified under IDEA; (5) the percentage of scholars completing IDEA-funded training programs who are knowledgeable and skilled in scientifically based or evidence-based practices for infants, toddlers, and children with disabilities; (6) the percentage of low incidence positions that are filled by personnel who are fully qualified under IDEA; and (7) the percentage of program graduates who maintain employment for three or more years in the area(s) for which they were trained.

Grantees may be asked to participate in assessing and providing information on these aspects of program quality.

VII. Agency Contact

FOR FURTHER INFORMATION CONTACT: See chart in the Award Information section in this notice for the name, room number and telephone number of the contact person for each competition. You can write to the contact person at the following address: U.S. Department of Education, 400 Maryland Avenue, SW., Potomac Center Plaza (PCP), Washington, DC 20202-2600.

If you use a TDD, call the FRS at 1-800-877-8339.

VIII. Other Information

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 14, 2008.
Tracy R. Justesen,
Assistant Secretary for Special Education and Rehabilitative Services.

[FR Doc. E8-16544 Filed 7-18-08; 8:45 am]

BILLING CODE 4000-01-P